DEPARTMENT OF THE TREASURY

Office of Foreign Assets Control

Notice of OFAC Sanctions Actions

AGENCY: Office of Foreign Assets Control, Treasury

ACTION: Notice.

SUMMARY: The Department of the Treasury's Office of Foreign Assets Control (OFAC) is publishing the names of one or more persons that have been placed on OFAC's Specially Designated Nationals and Blocked Persons List based on being listed in the Annex to an Executive Order or OFAC's determination that one or more applicable legal criteria were satisfied. All property and interests in property subject to U.S. jurisdiction of these persons are blocked, and U.S. persons are generally prohibited from engaging in transactions with them.

DATES: See SUPPLEMENTARY INFORMATION section.

FOR FURTHER INFORMATION CONTACT:

OFAC: Associate Director for Global Targeting, tel.: 202-622-2420; Assistant Director for Sanctions Compliance & Evaluation, tel.: 202-622-2490; Assistant Director for Licensing, tel.: 202-622-2480; Assistant Director for Regulatory Affairs, tel. 202-622-4855; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (www.treasury.gov/ofac).

Notice of OFAC Action(s)

On December 20, 2017, the President listed certain persons in the Annex to the Executive Order of December 20, 2017, “Blocking the Property of Persons Involved in Serious Human Rights Abuse and Corruption” (the “Order”). On December 21, 2017, the Director of OFAC, pursuant to the Order, determined that the property and interests in property subject to U.S. jurisdiction of certain other persons are blocked.

Individuals

1. KUSIUK, Sergey (a.k.a. KUSYUK, Sergej Nikolaevich; a.k.a. KUSYUK, Serhiy; a.k.a. KYSYUK, Sergei), Moscow, Russia; DOB 01 Dec 1966; POB Malaya Mochulka, Vinnitska, Ukraine; nationality Ukraine; alt. nationality Russia; Gender Male (individual) [GLOMAG].

A person listed in the Annex to the Order.

2. JUAREZ RAMIREZ, Julio Antonio (a.k.a. JUAREZ, Julio), Quinta Esterlima Km. 152.5, San Bernardino, Suchitepequez, Guatemala; DOB 01 Dec 1980; POB Mazatenango, Guatemala; nationality Guatemala; Gender Male (individual) [GLOMAG].

A person listed in the Annex to the Order.

3. SHAH, Mukhtar Hamid, 1 Hill Park Jhellum Road, Rawalpindi, Punjab, Pakistan; DOB 11 Aug 1939; alt. DOB 08 Nov 1939; POB Chakwal, Pakistan; nationality Pakistan; Gender Male; National ID No. 3740502728729 (Pakistan) (individual) [GLOMAG].

A person listed in the Annex to the Order.

4. GAO, Yan, Beijing, China; DOB Apr 1963; POB Hongtong, Shanxi, China; Gender Male (individual) [GLOMAG].

A person listed in the Annex to the Order.

5. GERTLER, Dan, 17 Daniel Street, Bnei Brak, Israel; 28 Daniel Street, Bnei Brak, Israel; Avenue Tchatchi 29, Gombe, Kinshasa, Congo, Democratic Republic of the; DOB 23 Dec 1973; POB Tel Aviv, Israel; nationality Israel; alt. nationality Congo, Democratic Republic of the; Gender Male; Passport 10945182 (Israel) issued 28 Jun 2010 expires 27 Jun 2020; alt. Passport 10926248 (Israel) issued 25 Feb 2008 expires 27 Feb 2018; alt. Passport DB0009084 (Congo, Democratic Republic of the) issued 28 May 2015 expires 27 May 2020; National ID No. 027100619 (Israel) (individual) [GLOMAG].

A person listed in the Annex to the Order.

6. SOE, Maung Maung, Burma; DOB Mar 1964; nationality Burma; Gender Male; National ID No. Tatmadaw Kyee 19571 (Burma) (individual) [GLOMAG].

A person listed in the Annex to the Order.

7. CHAYKA, Artem Yuryevich (a.k.a. CHAIKA, Artem), 38/2 Staraya Basmannaya, Apt. 310, Moscow, Russia; DOB 25 Sep 1975; POB Sverdlovsk, Russia; Gender Male; National ID No. 4501052463 (Russia) (individual) [GLOMAG].

A person listed in the Annex to the Order.

8. JAMMEH, Yahya (a.k.a. JAMMEH BABILI MANSA, Yahya AJJ; a.k.a. JAMMEH, Alhaji Dr. Abdul-Azziz Jemus Junkung; a.k.a. JAMMEH, Yahya Abdul-Aziz Jemus Junkung), Equatorial Guinea; DOB 25 May 1965; POB Kanilai, The Gambia; nationality The Gambia; Gender Male (individual) [GLOMAG].

A person listed in the Annex to the Order.

9. TESIC, Slobodan (a.k.a. SLOBODAN, Tezic), Serbia; DOB 21 Dec 1958; POB Kiseljak, Bosnia and Herzegovina; nationality Serbia; citizen Serbia; Gender Male; Passport 009511357 (Serbia) expires 27 Oct 2020; alt. Passport 007671811 (Serbia) expires 05 Aug 2019 (individual) [GLOMAG].

A person listed in the Annex to the Order.

10. BADJIE, Yankuba (a.k.a. BADGIE, Yankuba; a.k.a. BADJI, Yankouba), Banjul, The Gambia; DOB 25 Feb 1973; alt. DOB 24 Feb 1973; POB New Jeshwang, Kanifang Municipality, The Gambia; Gender Male (individual) [GLOMAG].

Designated pursuant to section 1(a)(ii)(A) of the Order, for being responsible for or complicit in, or having directly or indirectly engaged in, serious human rights abuse.

Also designated pursuant to section 1(a)(ii)(C)(1) of the Order, for having been a leader or official of an entity, including any government entity, that has engaged, or whose members have engaged, in serious human rights abuse relating to the leader's or official's tenure.

11. DEBOUTTE, Pieter Albert; DOB 15 Jun 1966; POB Roeselare, Flanders, Belgium; nationality Belgium; Gender Male (individual) [GLOMAG] (Linked To: GERTLER, Dan; Linked To: FLEURETTE PROPERTIES LIMITED; Linked To: GERTLER FAMILY FOUNDATION).

Designated pursuant to section 1(a)(iii)(B) of the Order, for having acted or purported to act for or on behalf of, directly or indirectly, Dan Gertler, Fleurette Properties Limited, and Gertler Family Foundation, persons whose property and interests in property are blocked pursuant to the Order.

12. BOL MEL, Benjamin (a.k.a. BOL MEL KUOL, Benjamin; a.k.a. BOL MOL KUOT, Benjamin; a.k.a. BOL, Benjamin; a.k.a. BOR, Benjamin), Othaya Road, Othaya Villas House #2, Nairobi 00202, Kenya; Hai-Jalaba, Centre Street, Juba, Central Equatoria, South Sudan; Juba, South Sudan; DOB 03 Jan 1978; alt. DOB 24 Dec 1978; POB Awiil, Sudan; alt. POB Rialdit, South Sudan; alt. POB Warrap State, South Sudan; alt. POB Abiem, Aweil East County, Northern Bahr al Ghazal, South Sudan; nationality South Sudan; alt. nationality Sudan; Gender Male; Passport B00000006 (South Sudan) issued 26 Jul 2013 expires 26 Jul 2018; President of ABMC Thai-South Sudan Construction Company (individual) [GLOMAG].

A person listed in the Annex to the Order.

13. RONDON RIJO, Angel, Ave Anacaona #83 Torre Caney Apt 25, Santo Domingo, Dominican Republic; DOB 16 Jul 1950; POB Higuey, Dominican Republic; Gender Male; Passport SC2249384 (Dominican Republic) issued 14 Jan 2015 expires 14 Jan 2021; alt. Passport 3297843 (Dominican Republic) issued 14 Jan 2015 expires 14 Jan 2021; National ID No. 00101629970 (Dominican Republic) (individual) [GLOMAG].

A person listed in the Annex to the Order.

14. KARIMOVA, Gulnara (a.k.a. KARIMOVA, Goulnara; a.k.a. KARIMOVA, Goulnora Islamovna; a.k.a. “Googoosha”), Tashkent, Uzbekistan; DOB 08 Jul 1972; POB Fergana, Uzbekistan; nationality Uzbekistan; citizen Uzbekistan; Gender Female; Passport DA0006735 (Uzbekistan) (individual) [GLOMAG].

A person listed in the Annex to the Order.

15. RIVAS REYES, Roberto Jose, Managua, Nicaragua; DOB 06 Jul 1954; POB Matagalpa, Nicaragua; nationality Nicaragua; Gender Male; Passport A00000604 (Nicaragua) issued 19 Jun 2013 expires 19 Jun 2023; alt. Passport 04091979435 (Nicaragua) issued 19 Jun 2013 expires 19 Jun 2023; National ID No. 4410607540007S (Nicaragua) (individual) [GLOMAG].

A person listed in the Annex to the Order.

Entities

1. CHARSO LIMITED, P. Lordos Center, Makariou C'Avenue & Vironos Street, Block B, Floor 2, Flat 203 3105, Limassol, Cyprus; Elli Court 210, Archiepiskopou Makariou C'Avenue, 2nd Floor Apt 4, 3030, Limassol, Cyprus; Registration ID C301690 (Cyprus) [GLOMAG] (Linked To: TESIC, Slobodan).

Designated pursuant to section 1(a)(iii)(B) of the Order, for being owned or controlled by Slobodan Tesic, a person whose property and interests in property are blocked pursuant to the Order.

2. GRAWIT LIMITED, Elli Court, Floor 2, Flat 4, 210, Makariou III Limassol, 3030, Limassol, Cyprus; Registration ID HE272654 (Cyprus) [GLOMAG] (Linked To: TESIC, Slobodan).

Designated pursuant to section 1(a)(iii)(B) of the Order, for being owned or controlled by Slobodan Tesic, a person whose property and interests in property are blocked pursuant to the Order.

3. PREDUZECE ZA TRGOVINU NA VELIKO I MALO PARTIZAN TECH DOO BEOGRAD-SAVSKI VENAC (a.k.a. PARTIZAN ARMS; a.k.a. PARTIZAN ARMS DOO; a.k.a. PARTIZAN TECH DOO; a.k.a. PARTIZAN TECH DOO BEOGRAD), Maglajska 19 11000, Beograd (Savski Venac), Serbia; website www.partizanarms.rs; Registration ID 20125225 (Serbia); Tax ID No. 104260278 [GLOMAG] (Linked To: TESIC, Slobodan).

Designated pursuant to section 1(a)(iii)(B) of the Order, for being owned or controlled by Slobodan Tesic, a person whose property and interests in property are blocked pursuant to the Order.

4. TECHNOGLOBAL SYSTEMS DOO BEOGRAD (a.k.a. CALIDUS TRADE DOO; a.k.a. CALIDUS TRADE DOO BEOGRAD), Maglajska 19 11000, Beograd 6, Beograd, Serbia; Registration ID 20295066 (Serbia); Tax ID No. 105012258 [GLOMAG] (Linked To: TESIC, Slobodan).

Designated pursuant to section 1(a)(iii)(B) of the Order, for being owned or controlled by Slobodan Tesic, a person whose property and interests in property are blocked pursuant to the Order.

5. AFRICADA AIRWAYS, The Gambia [GLOMAG] (Linked To: JAMMEH, Yahya).

Designated pursuant to section 1(a)(iii)(B) of the Order, for being owned or controlled by Yahya Jammeh, a person whose property and interests in property are blocked pursuant to the Order.

6. AFRICADA FINANCIAL SERVICES AND BUREAU DE CHANGE LTD (a.k.a. AFRICADA FINANCIAL SERVICES & BUREAU DE CHANGE LTD), The Gambia [GLOMAG] (Linked To: JAMMEH, Yahya).

Designated pursuant to section 1(a)(iii)(B) of the Order, for being owned or controlled by Yahya Jammeh, a person whose property and interests in property are blocked pursuant to the Order.

7. AFRICADA INSURANCE COMPANY, The Gambia [GLOMAG] (Linked To: JAMMEH, Yahya).

Designated pursuant to section 1(a)(iii)(B) of the Order, for being owned or controlled by Yahya Jammeh, a person whose property and interests in property are blocked pursuant to the Order.

8. AFRICADA MICRO-FINANCE LTD, The Gambia [GLOMAG] (Linked To: JAMMEH, Yahya).

Designated pursuant to section 1(a)(iii)(B) of the Order, for being owned or controlled by Yahya Jammeh, a person whose property and interests in property are blocked pursuant to the Order.

9. ATLANTIC PELICAN COMPANY LTD, The Gambia [GLOMAG] (Linked To: JAMMEH, Yahya).

Designated pursuant to section 1(a)(iii)(B) of the Order, for being owned or controlled by Yahya Jammeh, a person whose property and interests in property are blocked pursuant to the Order.

10. KANILAI GROUP INTERNATIONAL (a.k.a. KGI INTERNATIONAL COMPANY LTD), Banjul, The Gambia; P.O. Box 3070 Serrekunda, The Gambia [GLOMAG] (Linked To: JAMMEH, Yahya).

Designated pursuant to section 1(a)(iii)(B) of the Order, for being owned or controlled by Yahya Jammeh, a person whose property and interests in property are blocked pursuant to the Order.

11. KANILAI WORNI FAMILY FARMS LTD (a.k.a. KANILAI FAMILY FARMS; a.k.a. KANILAI FARMS LIMITED; a.k.a. KANILAI WORNI FARMS), Kanilai, The Gambia [GLOMAG] (Linked To: JAMMEH, Yahya).

Designated pursuant to section 1(a)(iii)(B) of the Order, for being owned or controlled by Yahya Jammeh, a person whose property and interests in property are blocked pursuant to the Order.

12. KORA MEDIA CORPORATION LTD, The Gambia [GLOMAG] (Linked To: JAMMEH, Yahya).

Designated pursuant to section 1(a)(iii)(B) of the Order, for being owned or controlled by Yahya Jammeh, a person whose property and interests in property are blocked pursuant to the Order.

13. PALM GROVE AFRICA DEV'T CORP. LTD, The Gambia [GLOMAG] (Linked To: JAMMEH, Yahya).

Designated pursuant to section 1(a)(iii)(B) of the Order, for being owned or controlled by Yahya Jammeh, a person whose property and interests in property are blocked pursuant to the Order.

14. PATRIOT INSURANCE BROKERS CO. LTD, The Gambia [GLOMAG] (Linked To: JAMMEH, Yahya).

Designated pursuant to section 1(a)(iii)(B) of the Order, for being owned or controlled by Yahya Jammeh, a person whose property and interests in property are blocked pursuant to the Order.

15. ROYAL AFRICA CAPITAL HOLDING LTD (a.k.a. ROYAL AFRICA HOLDING), The Gambia [GLOMAG] (Linked To: JAMMEH, Yahya).

Designated pursuant to section 1(a)(iii)(B) of the Order, for being owned or controlled by Yahya Jammeh, a person whose property and interests in property are blocked pursuant to the Order.

16. ROYAL AFRICA SECURITIES BROKERAGE CO LTD, The Gambia [GLOMAG] (Linked To: JAMMEH, Yahya).

Designated pursuant to section 1(a)(iii)(B) of the Order, for being owned or controlled by Yahya Jammeh, a person whose property and interests in property are blocked pursuant to the Order.

17. ABMC THAI-SOUTH SUDAN CONSTRUCTION COMPANY LIMITED (a.k.a. ABM CONSTRUCTION COMPANY; a.k.a. ABMC THAI SOUTH SUDAN CONSTRUCTION; a.k.a. AGGREGATE BUILDING MATERIALS CONSTRUCTION COMPANY; a.k.a. THAI SOUTH SUDAN CRUSHER, AGGREGATES, AND BUILDING MATERIALS COMPANY; a.k.a. TSSABM), Customs Area, Adjacent to the Bus Park, Juba, South Sudan; Jebel Kujur, Juba-Yei Road, South Sudan; Luri, Central Equatoria State, South Sudan [GLOMAG] (Linked To: BOL MEL, Benjamin).

Designated pursuant to section 1(a)(iii)(B) of the Order, for being owned or controlled by Benjamin Bol Mel, a person whose property and interests in property are blocked pursuant to the Order.

18. HOME AND AWAY LTD., Hai-Amarat (off May Street), Juba, South Sudan [GLOMAG] (Linked To: BOL MEL, Benjamin).

Designated pursuant to section 1(a)(iii)(B) of the Order, for being owned or controlled by Benjamin Bol Mel, a person whose property and interests in property are blocked pursuant to the Order.

19. AFRICA HORIZONS INVESTMENT LIMITED, Cayman Islands; 57/63 Line Wall Road, Gibraltar GX11 1AA, Gibraltar [GLOMAG] (Linked To: FLEURETTE PROPERTIES LIMITED).

Designated pursuant to section 1(a)(iii)(B) of the Order, for being owned or controlled by Fleurette Properties Limited, a person whose property and interests in property are blocked pursuant to the Order.

20. CAPRIKAT AND FOXWHELP SARL, Congo, Democratic Republic of the [GLOMAG] (Linked To: FLEURETTE PROPERTIES LIMITED; Linked To: CAPRIKAT LIMITED; Linked To: FOXWHELP LIMITED).

Designated pursuant to section 1(a)(iii)(B) of the Order, for being owned or controlled by Fleurette Properties Limited, Caprikat Limited, and Foxwhelp Limited, persons whose property and interests in property are blocked pursuant to the Order.

21. CAPRIKAT LIMITED, Akara Building, 24 Castro Street, Wickhams Cay 1, P.O. Box 3136, Road Town, Tortola, Virgin Islands, British; Public Registration Number 1577164 (Virgin Islands, British) [GLOMAG] (Linked To: FLEURETTE PROPERTIES LIMITED).

Designated pursuant to section 1(a)(iii)(B) of the Order, for being owned or controlled by Fleurette Properties Limited, a person whose property and interests in property are blocked pursuant to the Order.

22. D.G.D. INVESTMENTS LTD. (f.k.a. DAN GERTLER DIAMONDS LTD.), 23 Tuval, Ramat Gan 5252238, Israel; P.O. Box 101, Ramat Gan 5210002, Israel; Public Registration Number 512253352 (Israel) [GLOMAG] (Linked To: GERTLER, Dan).

Designated pursuant to section 1(a)(iii)(B) of the Order, for being owned or controlled by Dan Gertler, a person whose property and interests in property are blocked pursuant to the Order.

23. D.G.I. ISRAEL LTD, 23 Tuval, Ramat Gan 5252238, Israel; P.O. Box 101, Ramat Gan 5210002, Israel; Public Registration Number 513686220 (Israel) [GLOMAG] (Linked To: GERTLER, Dan).

Designated pursuant to section 1(a)(iii)(B) of the Order, for being owned or controlled by Dan Gertler, a person whose property and interests in property are blocked pursuant to the Order.

24. DGI MINING LTD, Palm Grove House, P.O. Box 438, Road Town, Tortola, Virgin Islands, British; Public Registration Number 649877 (Virgin Islands, British) [GLOMAG] (Linked To: GERTLER, Dan).

Designated pursuant to section 1(a)(iii)(B) of the Order, for being owned or controlled by Dan Gertler, a person whose property and interests in property are blocked pursuant to the Order.

25. EMAXON FINANCE INTERNATIONAL INC. (a.k.a. INTERNATIONAL FINANCIAL CORPORATION EMAXON INC.), 8356 Rue Labarre, Montreal, Quebec H4P2E7, Canada; Business Number 1160199932 (Canada) [GLOMAG] (Linked To: GERTLER, Dan).

Designated pursuant to section 1(a)(iii)(B) of the Order, for being owned or controlled by Dan Gertler, a person whose property and interests in property are blocked pursuant to the Order.

26. FLEURETTE HOLDINGS NETHERLANDS B.V., Industrieweg 5, Nieuwkoop, Zuid-Holland 2421 LK, Netherlands; Chamber of Commerce Number 55389694 (Netherlands); Legal Entity Number 851683897 (Netherlands) [GLOMAG] (Linked To: FLEURETTE PROPERTIES LIMITED).

Designated pursuant to section 1(a)(iii)(B) of the Order, for being owned or controlled by Fleurette Properties Limited, a person whose property and interests in property are blocked pursuant to the Order.

27. FLEURETTE PROPERTIES LIMITED, Strawinskylaan 335, WTC, B-Tower 3rd floor, Amsterdam 1077 XX, Netherlands; Gustav Mahlerplein 60, 7th Floor, ITO Tower, Amsterdam 1082 MA, Netherlands; 70 Batetela Avenue, Tilapia Building, 5th floor, Kinshasa, Gombe, Congo, Democratic Republic of the; 57/63 Line Wall Road, Gibraltar GX11 1AA, Gibraltar; Public Registration Number 99450 (Gibraltar) [GLOMAG] (Linked To: GERTLER, Dan).

Designated pursuant to section 1(a)(iii)(B) of the Order, for being owned or controlled by Dan Gertler, a person whose property and interests in property are blocked pursuant to the Order.

28. FOXWHELP LIMITED, Akara Building, 24 Castro Street, Wickhams Cay 1, P.O. Box 3136, Road Town, Tortola, Virgin Islands, British; Public Registration Number 1577165 (Virgin Islands, British) [GLOMAG] (Linked To: FLEURETTE PROPERTIES LIMITED).

Designated pursuant to section 1(a)(iii)(B) of the Order, for being owned or controlled by Fleurette Properties Limited, a person whose property and interests in property are blocked pursuant to the Order.

29. GERTLER FAMILY FOUNDATION (a.k.a. LA FONDATION FAMILLE GERTLER), Congo, Democratic Republic of the [GLOMAG] (Linked To: GERTLER, Dan).

Designated pursuant to section 1(a)(iii)(B) of the Order, for being owned or controlled by Dan Gertler, a person whose property and interests in property are blocked pursuant to the Order.

30. INTERNATIONAL DIAMOND INDUSTRIES (a.k.a. “IDI”), Kinshasa, Congo, Democratic Republic of the [GLOMAG] (Linked To: GERTLER, Dan).

Designated pursuant to section 1(a)(iii)(B) of the Order, for being owned or controlled by Dan Gertler.

31. JARVIS CONGO SARL, No. 70 Batetela Avenue, Tilapia Building (Orange), 5th floor, Kinshasa, Congo, Democratic Republic of the; No. 790 Panda Avenue, Golf Quarter, Lubumbashi, Congo, Democratic Republic of the [GLOMAG] (Linked To: DEBOUTTE, Pieter Albert; Linked To: FLEURETTE PROPERTIES LIMITED).

Designated pursuant to section 1(a)(iii)(B) of the Order, for being owned or controlled by Pieter Albert Deboutte and Fleurette Properties Limited, persons whose property and interests in property are blocked pursuant to the Order.

32. LORA ENTERPRISES LIMITED, Virgin Islands, British [GLOMAG] (Linked To: FLEURETTE PROPERTIES LIMITED; Linked To: ZUPPA HOLDINGS LIMITED).

Designated pursuant to section 1(a)(iii)(B) of the Order, for being owned or controlled by Fleurette Properties Limited and Zuppa Holdings Limited, persons whose property and interests in property are blocked pursuant to the Order.

33. OIL OF DR CONGO SPRL (a.k.a. OIL OF DRCONGO), 14 Avenue Sergent Moke, Kinshasa, Gombe, Congo, Democratic Republic of the [GLOMAG] (Linked To: FLEURETTE PROPERTIES LIMITED).

Designated pursuant to section 1(a)(iii)(B) of the Order, for being owned or controlled by Fleurette Properties Limited, a person whose property and interests in property are blocked pursuant to the Order.

34. ORAMA PROPERTIES LTD, Palm Grove House, P.O. Box 438, Road Town, Tortola, Virgin Islands, British; Public Registration Number 1041202 (Virgin Islands, British) [GLOMAG] (Linked To: FLEURETTE PROPERTIES LIMITED).

Designated pursuant to section 1(a)(iii)(B) of the Order, for being owned or controlled by Fleurette Properties Limited, a person whose property and interests in property are blocked pursuant to the Order.

35. PROGLAN CAPITAL LTD, 23 Tuval, Ramat Gan 5252238, Israel; P.O. Box 101, Ramat Gan 5210002, Israel; Public Registration Number 515000354 (Israel) [GLOMAG] (Linked To: D.G.D. INVESTMENTS LTD.).

Designated pursuant to section 1(a)(iii)(B) of the Order, for being owned or controlled by D.G.D. Investments Ltd, a person whose property and interests in property are blocked pursuant to the Order.

36. ROZARO DEVELOPMENT LIMITED, 57/63 Line Wall Road, Gibraltar [GLOMAG] (Linked To: FLEURETTE PROPERTIES LIMITED).

Designated pursuant to Section 1(a)(iii)(B) of the Order, for being owned or controlled by Fleurette Properties Limited, a person whose property and interests in property are blocked pursuant to the Order.

37. ZUPPA HOLDINGS LIMITED, Virgin Islands, British [GLOMAG] (Linked To: GERTLER, Dan; Linked To: FLEURETTE PROPERTIES LIMITED).

Designated pursuant to section 1(a)(iii)(B) of the Order, for being owned or controlled by Dan Gertler and Fleurette Properties Limited, a person whose property and interests in property are blocked pursuant to the Order.

Dated: December 22, 2017.
John E. Smith,
Director, Office of Foreign Assets Control.

[FR Doc. 2017-28031 Filed 12-27-17; 8:45 am]

BILLING CODE 4810-AL-P